ENVIRONMENTAL PROTECTION AGENCY

[FRL-9258-9]

Workshop To Discuss Issues Related to the Potential Development of Multipollutant Science and Risk Assessments for the Criteria Air Pollutants

AGENCY: Environmental Protection Agency (EPA).

ACTION: Notice of workshop.

SUMMARY: EPA is convening a public workshop to discuss issues related to the evaluation of health risks associated with exposures to air pollutant mixtures, focusing on the criteria air pollutants. This workshop is being jointly sponsored and organized by EPA's National Center for Environmental Assessment, Office of Air Quality Planning and Standards, Office of Research and Development, and the Health Effects Institute. The workshop will be held February 22-24, 2011, at the Carolina Inn in Chapel Hill, North Carolina. Although the workshop is open to the public, space is somewhat limited and registration is on first come-first served basis.

DATES: The workshop will be held on February 22, 23, and 24, 2011, beginning each day at 8 a.m. and ending at 5 p.m.

ADDRESSES: The workshop will take place at the Carolina Inn, 211 Pittsboro Street, Chapel Hill, NC 27516. The EPA contractor, ICF International, Inc., is providing logistical support for the workshop.

FOR FURTHER INFORMATION CONTACT: Questions regarding information, registration, and logistics for the workshop should be directed to Courtney Skuce at ICF International, Inc., telephone: 919-293-1660; e-mail: EPA_Multipollutant@icfi.com. Questions regarding the scientific and technical aspects of the workshop should be directed to Dr. Douglas Johns, telephone: 919-541-5596; e-mail: johns.doug@epa.gov.

SUPPLEMENTARY INFORMATION:

Summary of Information About the Workshop

Sections 108 and 109 of the Clean Air Act require periodic review and, if appropriate, revisions of the various national ambient air quality standards (NAAQS) and the air quality criteria on which they are based. In most cases, evaluating the health impacts of exposure to a given air pollutant involves disentangling similar effects of exposure to other co-occurring air pollutants. While an understanding of the independent effects of exposure to individual pollutants is essential, it is important to recognize that under normal ambient conditions, individuals are not exposed to separate pollutants in isolation, but rather to a complex mixture of air pollutants. EPA is currently in the process of developing plans to conduct a multipollutant science assessment whereby the health effects of exposures to mixtures of air pollutants, particularly the criteria air pollutants, may be systematically evaluated. Further, EPA is interested in developing methods through which information from multipollutant epidemiologic and exposure studies may be applied to risk and exposure assessments conducted as part of the NAAQS reviews. In the context of implementation of the NAAQS, such methods may be applied to analyses of the health benefits of implementation policies resulting in reductions in the concentrations of multiple air pollutants. In addition, EPA is interested in identifying research needs and approaches that may best inform and characterize the health effects of exposure to mixtures of air pollutants.

EPA is holding this workshop with invited expert panelists to provide input related to reviewing the various NAAQS within a multipollutant context, as well as guidance on ways in which EPA research may assist in this effort. The workshop will be organized with three, one-day technical sessions to facilitate focused panel discussions around various issues associated with: (1) The use of scientific information and statistical approaches in conducting air pollution risk analyses in multipollutant exposure environments, (2) interpretation and integration of information across scientific disciplines in developing a multipollutant science assessment to support the reviews of the NAAQS and the air quality criteria on which they are based, and (3) novel research and analytical approaches to better characterize the health effects of multipollutant exposures. The organization of the workshop is intended to encourage workshop participants to think broadly about the available and emerging scientific evidence and to facilitate an open dialogue among participants across disciplines regarding how this science may help to inform key policy-relevant issues. The input provided by participants during the workshop discussions will be taken into account as EPA develops future plans, approaches, and processes for moving toward multipollutant approaches to evaluating the health effects of air pollution. Ideally, attendees will be able to participate in all three phases of the meeting to provide coherence and maximally integrated discussions.

Dated: January 21, 2011.
Darrell A. Winner,
Acting Director, National Center for Environmental Assessment.

[FR Doc. 2011-1773 Filed 1-26-11; 8:45 am]

BILLING CODE 6560-50-P